DEPARTMENT OF COMMERCE

National Oceanic and Atmospheric Administration

50 CFR Part 622

[Docket No. 000824247-0247-01; I.D. 080200A]

RIN 0648-AO39

Fisheries of the Caribbean, Gulf of Mexico, and South Atlantic; Shrimp Fishery Off the Southern Atlantic States; Control Date

AGENCY: National Marine Fisheries Service (NMFS), National Oceanic and Atmospheric Administration (NOAA), Commerce.

ACTION: Advance notice of proposed rulemaking; consideration of a control date.

SUMMARY: This document announces that the South Atlantic Fishery Management Council (Council) is considering whether there is a need to impose additional management measures limiting entry into the commercial penaeid shrimp fishery in the South Atlantic exclusive economic zone (EEZ) and, if there is a need, what management measures should be imposed. If the Council and NMFS determine that there is a need to impose additional management measures, a rulemaking to do so may be initiated. Possible measures include the establishment of a limited entry program to control participation or effort in this fishery. This document intends to inform the public that the Council is establishing a control date of September 8, 2000. Anyone entering the fishery after the control date would not be assured of future access should a management regime that limits the number of participants in the fishery be prepared and implemented. The document also intends to discourage new entry into the fishery based on economic speculation during the Council's deliberation on the issues.

DATES: Comments must be submitted by October 10, 2000.

ADDRESSES: Comments should be directed to the South Atlantic Fishery Management Council, One Southpark Circle, Suite 306, Charleston, South Carolina 29407-4699; telephone: 843-571-4366; fax: 843-769-4520; email: safmc@noaa.gov.

FOR FURTHER INFORMATION CONTACT: Dr. Steve Branstetter 727-570-5305; email: steve.branstetter@noaa.gov or Mr. Roger Pugliese 843-571-4366; email: roger.pugliese@noaa.gov.

SUPPLEMENTARY INFORMATION: The commercial penaeid shrimp fishery in the South Atlantic Region is managed under the Fishery Management Plan for the Shrimp Fishery of the South Atlantic Region (FMP) as prepared by the South Atlantic Fishery Management Council (Council) and approved and implemented by NMFS. The FMP is implemented under the authority of the Magnuson-Stevens Fishery Conservation and Management Act by regulations at 50 CFR part 622.

The Council has concerns about increasing shrimping effort in the South Atlantic EEZ and wants to prevent the possibility of the development of an excess harvesting capacity for the shrimp fishery of the region. At its June 2000 meeting, the Council voted unanimously to establish a control date for the commercial penaeid shrimp fishery in the South Atlantic EEZ and requested that NMFS notify the industry by publishing notification of the control date in the Federal Register. Accordingly, NMFS publishes this document to notify the industry that September 8, 2000 is the control date for the commercial penaeid shrimp fishery in the South Atlantic EEZ. Implementation of any program that limits participation or effort in the penaeid shrimp fishery would require preparation of an FMP amendment followed by Secretarial review, approval, and implementation. Secretarial review involves publication of a notice of availability of the FMP amendment and of a proposed rule, with pertinent public comment periods.

Establishment of a control date does not commit the Council or NMFS to any particular management regime or criteria for entry into this fishery. Fishermen are not guaranteed future participation in the fishery regardless of their entry date or intensity of participation in the fishery before or after the control date under consideration. The Council may choose to use a different control date or a management regime that does not make use of such a date or to give variably weighted consideration to fishermen active in the fishery before and after the control date. Other qualifying criteria, such as documentation of landings and sales, may be applied for entry. The Council may also choose to take no further action to control entry or access to the fishery, in which case the control date may be rescinded.

This advanced notice of proposed rulemaking has been determined to be not significant for purposes of Executive Order 12866.

Authority: 6 U.S.C. 1801 et seq.

Dated: September 1, 2000.
William T. Hogarth,
Deputy Assistant Administrator, National Marine Fisheries Service.

[FR Doc. 00-23132 Filed 9-7-00; 8:45 am]

BILLING CODE 3510-22-S